DEPARTMENT OF COMMERCE

National Oceanic and Atmospheric Administration

50 CFR Part 300

Docket No. 220801-0167; RTID 0648-XD737]

International Fisheries; Pacific Tuna Fisheries; Inseason Action for 2024 Commercial Pacific Bluefin Tuna Annual Catch Limit in the Eastern Pacific Ocean

AGENCY: National Marine Fisheries Service (NMFS), National Oceanic and Atmospheric Administration (NOAA), Commerce.

ACTION: Temporary rule; inseason announcement of 2024 annual catch limit.

SUMMARY: NMFS is announcing that the Pacific bluefin tuna (PBF) 2024 annual catch limit for U.S. commercial fishing vessels in the eastern Pacific Ocean (EPO) is 720 metric tons (mt).

DATES: The rule is effective 12 a.m. local time on March 28, 2024, through 11:59 p.m. local time on December 31, 2024.

FOR FURTHER INFORMATION CONTACT: Tyler Lawson, NMFS West Coast Region, 503-230-5421.

SUPPLEMENTARY INFORMATION: The United States is a member of the Inter-American Tropical Tuna Commission (IATTC), which was established under the Convention for the Establishment of an IATTC signed in 1949 (1949 Convention). The 1949 Convention provides an international agreement to ensure the effective international conservation and management of highly migratory species of fish in the IATTC Convention Area. In 2003, the IATTC updated the 1949 Convention through the adoption of the Convention for the Strengthening of the IATTC Established by the 1949 Convention between the United States of America and the Republic of Costa Rica (Antigua Convention). The IATTC Convention Area, as amended by the Antigua Convention, includes the waters of the EPO bounded by the coast of the Americas, the 50° N and 50° S parallels, and the 150° W meridian.

Fishing for PBF in the EPO is managed, in part, under the Tuna Conventions Act of 1950, as amended (the Act), 16 U.S.C. 951 et seq. Under the Act, NMFS must publish regulations to carry out recommendations and decisions of the IATTC in consultation with the Department of State. Regulations implementing conservation and management measures for tuna and tuna-like species in the EPO are codified at 50 CFR part 300, subpart C.

On August 5, 2022, NMFS published a final rule (87 FR 47939) implementing IATTC Resolution C-21-05 (Measures for the Conservation and Management of Pacific Bluefin Tuna in the Eastern Pacific Ocean). That rule established an initial combined catch limit for 2023-2024 of 1,017 mt, not to exceed 720 mt in a single year. The 2023 catch limit was therefore set at 720 mt, and the 2024 catch limit is the lesser of the amount caught in 2023 subtracted from the biennial limit or 720 mt. That rule also provided that the initial 2023-2024 biennial limit would be adjusted if there was an over-harvest or under-harvest of the 2021-2022 biennial limit. On October 5, 2023, NMFS published a notice in the Federal Register (88 FR 69098) announcing a PBF 2023-2024 biennial catch limit of 1,054 mt. That notice stated that the annual catch limit for 2024 would be announced at the beginning of 2024. This notification announces the catch limit for 2024 will remain unchanged at 720 mt (i.e., the 1-year maximum catch limit for 2023-2024).

As established in the August 2022 final rule, the annual catch limit for 2024 is contingent upon the amount of PBF tuna caught in 2023; specifically, the 2024 limit is the lesser of the amount caught in 2023 subtracted from the biennial limit or 720 mt. Based on landings data and other information available as of February 5, 2024, 186 mt of PBF were caught by U.S. commercial vessels fishing in the EPO in 2023, which when subtracted from the biennial limit (1,054 mt) results in an amount that is in excess of the 1-year maximum catch limit of 720 mt. The annual catch limit for 2024 is therefore 720 mt.

Notice of the annual catch limit has also been posted on the NMFS website: https://www.fisheries.noaa.gov/west-coast/sustainable-fisheries/pacific-bluefin-tuna-commercial-harvest-status.

Classification

There is good cause to waive prior notice and an opportunity for public comment on this action under 5 U.S.C. 553(b)(B), as notice and comment would be impracticable, unnecessary, and contrary to the public interest. Existing regulations provide NMFS with no discretion in setting the 2024 annual catch limit; therefore, public comment on this action is unnecessary. Moreover, prior notice and an opportunity for public comment were provided when NMFS promulgated the regulations for determining the biennial and annual catch limits for 2023-2024. Notification of the 2023-2024 biennial catch limit and associated annual catch limit were also provided to the public through posting on the NMFS website.

This action is exempt from review under Executive Order 12866.

Authority: 16 U.S.C. 951 et seq.

Dated: February 22, 2024.
Everett Wayne Baxter,
Acting Director, Office of Sustainable Fisheries, National Marine Fisheries Service.

[FR Doc. 2024-04054 Filed 2-27-24; 8:45 am]

BILLING CODE 3510-22-P